DEPARTMENT OF VETERANS AFFAIRS

Geriatrics and Gerontology Advisory Committee, Notice of Meeting

The Department of Veterans Affairs (VA) gives notice under the Federal Advisory Committee Act that the Geriatrics and Gerontology Advisory Committee (GGAC) will conduct a public meeting on Tuesday, September 17-Wednesday, September 18, 2019 at 810 Vermont NW, Room 630, Washington, DC. The meeting sessions will begin and end as follows:

Date | Time
September 17, 2019 | 1:00 p.m. to 5:00 p.m.
September 18, 2019 | 8:00 a.m. to 3:30 p.m.

The meeting sessions are open to the public.

The Geriatrics and Gerontology Advisory Committee advises the Secretary and the Under Secretary for Health on all matters pertaining to geriatrics and gerontology. The Committee's areas of interest include but are not limited to: (1) Assessing the capability of VA health care facilities (including facilities designated as Geriatric Research, Education, and Clinical Centers) to respond with the most effective and appropriate services possible to the medical, psychological and social needs of older Veterans; and (2) advancing scientific knowledge to meet those needs by enhancing geriatric care for older Veterans through geriatric and gerontology research, the training of health personnel in the provision of health care to older individuals, and the development of improved models of clinical services for older Veterans.

Committee members will meet with members of VHA leadership, Geriatrics and Extended Care leadership, and receive updates and or presentations on the following subjects: CERNER/EHR Migration, the MISSION Act, Choose Home, HR Recruitment and Retention, and Geriatric, Research, and Clinical Centers.

Members of the public may submit written statements for the Committee's review to Alejandra Paulovich, Designated Federal Officer (DFO) at Alejandra.Paulovich@va.gov. Any member of the public and media planning to attend or seeking additional information should notify Alejandra Paulovich, DFO, at (202) 461-6016, or Alejandra.Paulovich@va.gov.

Dated: August 22, 2019.
Jelessa M. Burney,
Federal Advisory Committee Management Officer.

[FR Doc. 2019-18423 Filed 8-26-19; 8:45 am]

BILLING CODE P